DEPARTMENT OF ENERGY

Federal Energy Regulatory Commission

[Docket No. RD24-5-000]

Commission Information Collection Activities (FERC-725S); Comment Request; Revision

AGENCY: Federal Energy Regulatory Commission, (DOE).

ACTION: Notice of information collection and request for comments.

SUMMARY: In compliance with the requirements of the Paperwork Reduction Act of 1995, the Federal Energy Regulatory Commission (Commission or FERC) is soliciting public comment on the currently approved information collection, FERC-725S, (Emergency Preparedness and Operations (EOP) Reliability Standards) and submitting the information collection to the Office of Management and Budget (OMB) for review. Any interested person may file comments directly with OMB and should address a copy of those comments to the Commission as explained below.

DATES: Comments on the collection of information are due January 21, 2025.

ADDRESSES: Send written comments on FERC-725S (1902-0270) to OMB through www.reginfo.gov/public/do/PRAMain. Attention: Federal Energy Regulatory Commission Desk Officer. Please identify the OMB Control Numbers in the subject line of your comments. Comments should be sent within 30 days of publication of this notice to www.reginfo.gov/public/do/PRAMain.

Please submit copies of your comments to the Commission. You may submit copies of your comments (identified by Docket No. RD24-5-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Kayla Williams may be reached by email at DataClearance@FERC.gov, telephone at (202) 502-6468.

SUPPLEMENTARY INFORMATION:

Title: FERC-725S, Emergency Preparedness and Operations (EOP) Reliability Standards.

OMB Control No.: 1902-0270.

Type of Request: Revision of a currently approved FERC-725S information collection requirements with changes to the reporting requirements.

Abstract: On February 16, 2024, the North American Electric Reliability Corporation (NERC), the Commission-certified Electric Reliability Organization (ERO), submitted a petition seeking approval of proposed Reliability Standard EOP-012-2 (Extreme Cold Weather Preparedness and Operations). As discussed in this order, we approve proposed Reliability Standard EOP-012-2, its associated violation risk factors and violation severity levels, NERC's proposed implementation plan, the newly defined terms Fixed Fuel Supply Component and Generator Cold Weather Constraint, the revised defined terms Generator Cold Weather Critical Component and Generator Cold Weather Reliability Event, and the retirement of Reliability Standard EOP-012-1 immediately prior to the effective date of proposed Reliability Standard EOP-012-2.¹ We also approve NERC's proposed implementation date for Reliability Standard EOP-011-4 and the proposed retirement of Reliability Standards EOP-011-2 and EOP-011-3 immediately prior to the effective date of proposed Reliability Standard EOP-012-2.²

¹ 16 U.S.C. 824o(d)(2).

² Id.

It is essential to the reliable operation of the Bulk-Power System to “ensure enough generating units will be available during the next cold weather event.” ³ When extreme cold weather events such as Winter Storms Uri or Elliott occur, the Bulk-Power System cannot operate reliably without adequate generation. Proposed Reliability Standard EOP-012-2 improves upon the approved, but not yet effective, Reliability Standard EOP-012-1 by clarifying the requirements for generator cold weather preparedness and by making other improvements consistent with the Commission's directives in its February 2023 Order to help ensure that more generation is available during extreme cold weather.⁴ Accordingly, we find that proposed Reliability Standard EOP-012-2 is just, reasonable, not unduly discriminatory or preferential, and in the public interest.

³ FERC, NERC, and Regional Entity Staff, The February 2021 Cold Weather Outages in Texas and the South Central United States, at 189 (Nov. 16, 2021), https://www.ferc.gov/media/february-2021-cold-weather-outages-texas-and-south-central-united-states-ferc-nerc-and (November 2021 Report).

⁴ See, e.g., N. Am. Elec. Reliability Corp., 182 FERC ¶ 61,094, PP 3-11 (2023) (February 2023 Order); reh'g denied, 183 FERC ¶ 62,034, order on reh'g, 183 FERC ¶ 61,222 (2023).

Nevertheless, we find that proposed Reliability Standard EOP-012-2 requires improvement to address certain concerns, as discussed below. Therefore, pursuant to section 215(d)(5) of the Federal Power Act (FPA),⁵ FERC directs NERC to:

⁵ 16 U.S.C. 824o(d)(5).

(1) develop and submit modifications to proposed Reliability Standard EOP-012-2 to address concerns related to the ambiguity of the newly defined term Generator Cold Weather Constraint to ensure that the Generator Cold Weather Constraint declaration criteria included within the proposed Standard are objective and sufficiently detailed so that applicable entities understand what is required of them and to remove all references to “reasonable cost,” “unreasonable cost,” “cost,” and “good business practices” and replace them with objective, unambiguous, and auditable terms;

(2) develop and submit modifications to proposed Reliability Standard EOP-012-2 for NERC to receive, review, evaluate, and confirm the validity of each Generator Cold Weather Constraint invoked by a generator owner, in a timely fashion, to ensure that such declaration cannot be used to avoid mandatory compliance with the proposed Reliability Standard or obligations in a corrective action plan;

(3) develop and submit modifications to proposed Reliability Standard EOP-012-2 to shorten and clarify the corrective action plan implementation timelines and deadlines in Requirement R7, as further directed below;

(4) develop and submit modifications to Requirement R7 of proposed Reliability Standard EOP-012-2 to ensure that any extension of a corrective action plan implementation deadline beyond the maximum implementation timeframe required by the Standard is pre-approved by NERC and to ensure that the generator owner informs relevant registered entities of operating limitations in extreme cold weather during the period of the extension; and

(5) develop and submit modifications to Requirement R8, part 8.1 of proposed Reliability Standard EOP-012-2 to implement more frequent reviews of Generator Cold Weather Constraint declarations to verify that the constraint declaration remains valid.

The Commission has repeatedly expressed an urgency in completing cold weather Reliability Standards and having them implemented in a timely manner to address the risks presented by cold weather events on the reliability of the Bulk-Power System.⁶ Further, we note that NERC submitted the current filing in response to Commission directives to improve the cold weather Reliability Standards, and the five core directives to NERC in this order are not new issues, but rather targeted modifications necessary to fully address issues identified in the Commission's prior February 2023 Order. Accordingly, we direct NERC to make the above modifications and submit the revised Reliability Standard within nine months of the date of issuance of the order in Docket No. RD24-5-000.⁷

⁶ See e.g., N. Am. Elec. Reliability Corp., 183 FERC ¶ 62,034 at P 10 (emphasizing that industry has been aware of and alerted to the need to prepare generating units for cold weather since at least 2011 and that in considering an appropriate implementation period for Reliability Standard EOP-012-1, NERC should consider how much time industry has already had to implement freeze protection measures).

⁷ 89 FR 55239.

Background

Section 215 and Mandatory Reliability Standards

Section 215 of the FPA provides that the Commission may certify an ERO, the purpose of which is to develop mandatory and enforceable Reliability Standards, subject to Commission review and approval.⁸ Reliability Standards may be enforced by the ERO, subject to Commission oversight, or by the Commission independently.⁹ Pursuant to section 215 of the FPA, the Commission established a process to select and certify an ERO,¹⁰ and subsequently certified NERC.¹¹

⁸ 16 U.S.C. 824o(c).

⁹ Id. Sec. 824o(e).

¹⁰ Rules Concerning Certification of the Elec. Reliability Org.; & Procs. for the Establishment, Approval, & Enforcement of Elec. Reliability Standards, Order No. 672, 114 FERC ¶ 61,104, order on reh'g, Order No. 672-A, 114 FERC ¶ 61,328 (2006); see also 18 CFR 39.4(b) (2023).

¹¹ N. Am. Elec. Reliability Corp., 116 FERC ¶ 61,062, order on reh'g and compliance, 117 FERC ¶ 61,126 (2006), aff'd sub nom. Alcoa, Inc. v. FERC, 564 F.3d 1342 (D.C. Cir. 2009).

The February 2021 Cold Weather Reliability Event

On February 16, 2021, Commission, NERC, and Regional Entity staff initiated a joint inquiry into the circumstances surrounding a February 2021 cold weather reliability event then affecting Texas and the South-Central United States. In November 2021, Commission staff issued a report regarding the event, which found that the event was the largest controlled firm load shed event in U.S. history; over 4.5 million people lost power and at least 210 people lost their lives during the event.¹² The November 2021 Report made 28 recommendations including, inter alia, enhancements to the Reliability Standards to improve extreme cold weather operations, preparedness, and coordination.¹³

¹² See November 2021 Report at 9.

¹³ Id. at 184-212 (sub-recommendations 1a through 1j).

After the February 2021 cold weather reliability event, but before the November 2021 Report was issued, NERC filed a petition for approval of cold weather Reliability Standards addressing recommendations from a report regarding a 2018 cold weather event.¹⁴ In August 2021, the Commission approved NERC's modifications to Reliability Standards EOP-011-2 (Emergency Preparedness and Operations), IRO-010-4 (Reliability Coordinator Data Specification and Collection), and TOP-003-5 (Operational Reliability Data).¹⁵ Reliability Standards IRO-010-4 and TOP-003-5 require that reliability coordinators, transmission operators, and balancing authorities develop, maintain, and share generator cold weather data.¹⁶ Reliability Standard EOP-011-2 requires generator owners to have generating unit cold weather preparedness plans.¹⁷

¹⁴ FERC and NERC Staff, The South Central United States Cold Weather Bulk Electric System Event of January 17, 2018, at 89 (Jul. 2019), https://www.ferc.gov/sites/default/files/2020-07/SouthCentralUnitedStatesColdWeatherBulkElectricSystemEventofJanuary17-2018.pdf.

¹⁵ See generally N. Am. Elec. Reliability Corp., 176 FERC ¶ 61,119 (2021).

¹⁶ Id.

¹⁷ Id.

On October 28, 2022, NERC filed a petition seeking approval of Reliability Standards EOP-011-3 (Emergency Operations) and EOP-012-1 (Extreme Cold Weather Preparedness and Operations), their associated violation risk factors and violation severity levels, three newly-defined terms (Extreme Cold Weather Temperature, Generator Cold Weather Critical Component, and Generator Cold Weather Reliability Event), NERC's proposed implementation plan, and the retirement of Reliability Standard EOP-011-2.¹⁸ On February 16, 2023, the Commission approved Reliability Standards EOP-011-3 and EOP-012-1, directed NERC to develop and submit modifications to Reliability Standard EOP-012-1 and to submit a plan on how NERC will collect and assess data surrounding the implementation of Reliability Standard EOP-012-1, and deferred the retirement of Reliability Standard EOP-011-2.¹⁹

¹⁸ NERC 2022 Petition at 1-2.

¹⁹ See February 2023 Order, 182 FERC ¶ 61,094 at PP 3-11.

On October 30, 2023, NERC filed a petition seeking approval of Reliability Standards EOP-011-4 (Emergency Operations) and TOP-002-5 (Operations Planning), their associated violation risk factors and violation severity levels, NERC's proposed implementation plan, and the retirement of Reliability Standards EOP-011-2 and TOP-002-4. On February 15, 2024, the Commission approved Reliability Standards EOP-011-3 and TOP-002-5 and again deferred the retirement of Reliability Standard EOP-011-2.²⁰

²⁰ See id. PP 1-2.

NERC's Petition and Proposed Reliability Standard EOP-012-2

On February 16, 2024, in response to the Commission's February 2023 Order, NERC filed a petition seeking approval of proposed Reliability Standard EOP-012-2,²¹ its associated violation risk factors and violation severity levels, two newly defined terms (Fixed Fuel Supply Component and Generator Cold Weather Constraint), two revised terms (Generator Cold Weather Critical Component and Generator Cold Weather Reliability Event), NERC's proposed implementation plan, and the retirement of currently approved Reliability Standard EOP-012-1.²² NERC explains that proposed Reliability Standard EOP-012-2 improves upon the approved, but not yet effective, generator cold weather preparation Reliability Standard EOP-012-1 and is consistent with the Commission's directives from the February 2023 Order.²³ NERC states that proposed Reliability Standard EOP-012-2 clarifies applicability of the Standard's requirements for generator cold weather preparedness, would further define the circumstances under which a generator owner may declare that constraints preclude it from implementing one or more corrective actions to address freezing issues, and shortens the implementation timeline so that cold weather reliability risks would be addressed sooner.²⁴

²¹ The proposed Reliability Standard EOP-012-2 is not attached to this order. The proposed Reliability Standard is available on the Commission's eLibrary document retrieval system in Docket No. RD24-5-000 and on the NERC website, www.nerc.com.

²² NERC Petition at 1-4.

²³ Id. at 2.

²⁴ Id.

NERC states that the purpose of proposed Reliability Standard EOP-012-2 is unchanged from that of approved Reliability Standard EOP-012-1, which is to ensure that each generator owner develops and implements plans to alleviate the reliability impacts of extreme cold weather on its generating units.²⁵ NERC also notes that proposed Reliability Standard EOP-012-2 completes NERC's two-part plan to address recommendations from the November 2021 Report by including revisions to address parts of Key Recommendations 1a, 1b, 1c, and 1d.²⁶ NERC states that the proposed Reliability Standard contains new and revised requirements to advance the reliability of the Bulk-Power System by requiring generator owners to (1) review their generator cold weather data periodically, (2) include any identified start up issues in their generator cold weather data provided to reliability entities, and (3) consider the impacts of freezing precipitation and wind speed in identifying generator cold weather data.²⁷

²⁵ Id. at 29.

²⁶ See id. at 25-26, 35, 49-50 (citing the November 2021 Report at 184-86).

²⁷ Id. at 23.

Proposed Reliability Standard EOP-012-2 has eight requirements, seven of which have been carried over and modified from approved Reliability Standard EOP-012-1 (Requirements R1-R7) and one of which is new (Requirement R8). Proposed Reliability Standard EOP-012-2 applies to generator owners and generator operators that own or operate bulk electric system generating units.²⁸

²⁸ NERC Petition at 22-23.

Proposed Reliability Standard EOP-012-2, Requirement R1 modifies the Requirements for each generator owner to calculate the Extreme Cold Weather Temperature for each of its applicable generating units and to re-calculate that temperature at least once every five calendar years.²⁹ Where a periodic re-calculation results in a lower Extreme Cold Weather Temperature for the generating unit, the generator owner must update its cold weather preparedness plan within six months and, if necessary, develop a corrective action plan to implement measures at the applicable unit to provide the capability to operate at that new, lower temperature. Proposed Reliability Standard EOP-012-2, Requirement R1, Part 1.2, also maintains Requirement R3.1 to identify generating unit cold weather data, including operating limitations in cold weather and minimum operating temperatures, from approved Reliability Standard EOP-012-1, Requirement R3, Part 3.5.³⁰

²⁹ Requirement R1 under proposed Reliability Standard EOP-012-2 modifies existing Requirement R3, Part 3.1 and Requirement R4 under currently approved but not yet effective Reliability Standard EOP-012-1.

³⁰ NERC Petition at 33-37.

Proposed Reliability Standard EOP-012-2, Requirements R2 and R3 clarify the cold weather operational capability requirements for new and existing bulk electric system generating units.³¹ Under proposed Reliability Standard EOP-012-2, Requirement R2, generator owners would be required to implement freeze protection measures at applicable bulk electric system generating units to provide the capability to operate at the Extreme Cold Weather Temperature with sustained, concurrent 20 mph wind speed for the unit.³² Specifically, Requirement R2 requires generating units with a commercial operation date on or after October 1, 2027, to be capable of operating at the unit's Extreme Cold Weather Temperature for a continuous 12-hour period or at the maximum operational duration for intermittent energy resources if less than 12 continuous hours. If a generating unit is unable to do either then it must develop a corrective action plan to add new or modify existing or previously planned freeze protection measures to provide the capability to operate at the unit's Extreme Cold Weather Temperature with a sustained, concurrent 20 mph wind speed.³³

³¹ Requirements R2 and R3 under proposed Reliability Standard EOP-012-2 were originally Requirements R1 and R2, respectively, under currently approved but not yet effective Reliability Standard EOP-012-1.

³² NERC Petition at 37.

³³ Id. at 38.

Similar to Requirement R2, but without the wind and duration criteria, Requirement R3 requires either that existing generating units, (i.e., those in commercial operation prior to October 1, 2027) be capable of operating at the unit's Extreme Cold Weather Temperature or that the generator owner develops a corrective action plan to address the unit's inability to continuously operate successfully.³⁴ Requirements R2 and R3 exempt generating units that do not self-commit or are not required to operate at or below a temperature of 32 degrees Fahrenheit, including those that may be called upon to operate to assist in mitigating emergencies during periods at or below 32 degrees Fahrenheit.³⁵ Proposed Reliability Standard EOP-012-2, Requirement R4,³⁶ modifies the requirement for generator owners to implement and maintain cold weather preparedness plans.³⁷

³⁴ Id. at 38-39.

³⁵ Proposed Reliability Standard EOP-012-2, Requirement R2, n.1 and Requirement R3, n.2; see also NERC Petition at 41-42.

³⁶ Proposed Reliability Standard EOP-012-2, Requirement R4 was originally Requirement R3 in currently approved but not yet effective Reliability Standard EOP-012-1.

³⁷ NERC Petition at 45.

Under Requirement R4, generator owners would include in their cold weather preparedness plans the information determined in accordance with proposed Reliability Standard EOP-012-2, Requirement R1. Requirement R4 also clarifies that the cold weather preparedness plans shall reflect the lowest calculated Extreme Cold Weather Temperature for the unit, even if subsequent re-calculations indicate warming temperatures.³⁸

³⁸ Id. at 46 (citing proposed Reliability Standard EOP-012-2, Requirement R4, n.3, which states that generator owners shall include the lowest calculated Extreme Cold Weather Temperature for the unit, even where subsequent periodic re-calculations under Requirement R1, Part 1.1 cause an increase in the Extreme Cold Weather Temperature).

Proposed Reliability Standard EOP-012-2, Requirement R5 is substantively unchanged from the prior version of the Standard. Requirement R5 states that generator owners must train their personnel annually on the unit's cold weather preparedness plans.³⁹

³⁹ Id. at 47.

Proposed Reliability Standard EOP-012-2, Requirement R6 modifies the requirement that generator owners that self-commit or are required to operate at or below a temperature of 32 degrees Fahrenheit and experience an outage, failure to start, or derate due to freezing at or above their Extreme Cold Weather Temperature must develop a corrective action plan to address the identified causes. Requirement R6 exempts generating units that do not self-commit or are not required to operate at or below a temperature of 32 degrees Fahrenheit, including those that may be called upon to operate to assist in mitigating emergencies during periods at or below 32 degrees Fahrenheit.⁴⁰

⁴⁰ Id. at 48 (citing Proposed Reliability Standard EOP-012-2, Requirement R6, n.4).

Proposed Reliability Standard EOP-012-2, Requirement R7 modifies the requirement for implementing corrective action plans. Requirement R7 includes new implementation deadlines for implementing corrective action plans and clarifies the types of constraints that may preclude the implementation of one or more corrective actions.⁴¹ Specifically, Requirement R7 requires that for each corrective action plan developed pursuant to Requirements R1, R2, R3, or R6, generator owners shall include a timetable for implementing the corrective actions and complete the corrective actions in accordance with the timetables outlined in the proposed Standard.⁴² Under Requirement R7, generator owners are permitted to update the corrective action plan timetables, with justifications, if corrective actions change or the timetable exceeds the timelines in Requirement R7, Part 7.1. This requirement also states that the generator owner must document, in a declaration with justification, any Generator Cold Weather Constraint that precludes the generator owner from implementing the selected actions contained within the corrective action plan.⁴³

⁴¹ Id. at 50.

⁴² Id. at 50-51 (noting that generator owners must list the actions that address existing equipment or freeze protection measures to be completed within 24 calendar months of completing development of the corrective action plan, list the actions that require new equipment or freeze protection measures, if any, to be completed within 48 calendar months of completing development of the corrective action plan, and list the updates to the cold weather preparedness plan requirement under Requirement R4 to identify the updates or additions to the Generator Cold Weather Critical Components and their freeze protection measures) (emphasis added).

⁴³ NERC Petition at 51-60.

Proposed Reliability Standard EOP-012-2, Requirement R8 is a new requirement that would apply to generator owners that have declared a Generator Cold Weather Constraint under Requirement R7. Specifically, this requirement states that each generator owner that creates a Generator Cold Weather Constraint declaration shall review the Generator Cold Weather Constraint declaration at least every five calendar years or as needed when a change of status to the Generator Cold Weather Constraint occurs and update the operating limitations associated with capability and availability under Requirement R1, Part 1.2, if applicable.⁴⁴

⁴⁴ Id. at 62.

NERC requests that the Commission approve the violation risk factors and violation severity levels for proposed Reliability Standard EOP-012-2.⁴⁵ Further, NERC proposes an effective date for Reliability Standard EOP-012-2 (with the exception of Requirement R3, which would become mandatory and enforceable 12-months following the proposed Standard's effective date) of October 1, 2024 or the first day of the first calendar quarter that is three months following regulatory approval, whichever is later.⁴⁶

⁴⁵ Id. at 2-3.

⁴⁶ Id. at 66.

Finally, NERC requests that the Commission approve proposed Reliability Standard EOP-012-2 in an expedited manner. NERC explains that, among other things, expedited approval would provide regulatory certainty to entities seeking to comply with the proposed Reliability Standard ahead of the mandatory and enforceable date.⁴⁷

⁴⁷ Id. at 70-71.

The EOP Standards are currently located in the FERC-725S (OMB Control No. 1902-0270) collection.⁴⁸ In Docket No. RD24-5-000, the Commission proposes to replace the current OMB approved Reliability Standard EOP-012-1 with proposed Reliability Standard EOP-012-2 (Table 1). Proposed Reliability Standard EOP-012-2 has eight requirements, seven of which have been carried over and modified from the already approved Reliability Standard EOP-012-1 (Requirements R1-R7) and one of which is new (Requirement R8). The estimates in the tables below are based, in combination, on one-time (years 1 and 2) and ongoing execution (year 3) obligations to follow the revised Reliability Standard EOP-012-2. The number of respondents below are based on an estimate of the NERC compliance registry for generator owners and generator operators. Proposed Reliability Standard EOP-012-2 applies to generator owners and generator operators. The Commission based its paperwork burden estimates on the NERC compliance registry as of April 16, 2024. According to the registry for US unique entities, there are 1,210 generator owners. The estimates in the tables below are based on the change in burden from the Reliability Standards approved in this order.⁴⁹ The Commission based the burden estimates in the tables below on staff experience, knowledge, and expertise.

⁴⁸ The FERC-725S collection includes the EOP family of Reliability Standards: EOP-004-4, EOP 005-3, EOP-006-3, EOP-008-2, EOP-010-1, EOP-011-4, and EOP-012-2.

⁴⁹ The overall burden associated with Reliability Standard EOP-012 will be the sum of the burden (responses) from Reliability Standard EOP-012-1 (under RD23-1-000) and Reliability Standard EOP-012-2 (under RD24-5-000).

Public Reporting Burden: The estimated costs and burden for the revisions in Docket No. RD24-5-000 are shown in the table below.

⁵⁰ The estimated hourly cost (salary plus benefits) is a combination based on the Bureau of Labor Statistics (BLS), as of 2024, for seventy five percent of the average of an Electrical Engineer (17-2071)−$79.31 and mechanical engineers (17-2141)−$89.86. ($79.31 + $89.86)/2 = 84.585 × .75 = 63.439 ($63.44-rounded) ($63.44/hour) and twenty-five percent of an Information and Record Clerk (43-4199) $44.74 × .25% = 11.185 ($11.19 rounded) ($11.19/hour), for a total ($63.44+$11.19 = $74.63/hour).

⁵¹ A fraction of generator owners would be required to perform the task on an ongoing basis, and the hours represent the whole body of generator owners.

Table 1—Proposed Changes Due to Final Rule in Docket No. RD24-5-000 for EOP-012-2
Reliability standard & requirement | Type and number of entity | Number of annual responses per entity | Total number of responses | Average number of burden hours per response ⁵⁰ | Total burden hours
| (1) | (2) | (1) * (2) = (3) | (4) | (3) * (4) = (5)
FERC-725S
One Time Estimate—Years 1 and 2 EOP-012-2
EOP-012-2 | 1,210 (GO) | 1 | 1,210 | 5 hrs., $373.15 | 6,050 hrs., $451,511.5.
Sub-Total for EOP-012-2 (one-time) |  |  | 1,210 | 5 hrs., $373.15 | 6,050 hrs., $451,511.5.
Ongoing Estimate—Year 3 ongoing EOP-012-2
EOP-012-2 | 1,210 (GO) | 1 | 1,210 | 2 hrs.⁵¹, $149.26 | 2,420 hrs., $180,604.6.
Sub-Total for EOP-012-2 (ongoing) |  |  | 1,210 | 2 hrs., $149.26 | 2,420 hrs., $180,604.6.
Sub-Total of ongoing burden averaged over three years |  |  | 404 |  | 807 hrs., $60,226.41.
Proposed Total Burden Estimate of EOP-012-2 |  |  | 1,614 |  | 6,857 hrs., $511,737.91.
Changes to FERC 725S by RD24-5-000
FERC-725S modification | Current inventory (hours) | Current inventory (responses) | Total change due to RD24-5-000
Addition of EOP-012-2 |  |  | +6,857 hrs., +1,614 responses.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 13, 2024.
Debbie-Anne A. Reese,
Secretary.

[FR Doc. 2024-30275 Filed 12-18-24; 8:45 am]

BILLING CODE 6717-01-P